DEPARTMENT OF ENERGY

Federal Energy Regulatory Commission

Combined Notice of Filings #1

Take notice that the Commission received the following electric corporate filings:

Docket Numbers: EC14-60-000.

Applicants: Pheasant Run Wind II, LLC, DTE Energy Company, DTE Electric Company.

Description: Application for Authorization for Disposition of Jurisdictional Facilities of Pheasant Run Wind II, LLC, et. al.

Filed Date: 2/20/14.

Accession Number: 20140220-5226.

Comments Due: 5 p.m. ET 3/13/14.

Take notice that the Commission received the following electric rate filings:

Docket Numbers: ER10-2721-003.

Applicants: El Paso Electric Company.

Description: Second Letter responding to telephone request of Commission Staff of El Paso Electric Company.

Filed Date: 2/21/14.

Accession Number: 20140221-5096.

Comments Due: 5 p.m. ET 3/14/14.

Docket Numbers: ER11-3417-005; ER10-2895-009; ER13-2143-002; ER10-3167-001; ER13-203-001; ER11-2292-008; ER11-3942-007; ER11-2293-008; ER10-2917-009; ER11-2294-008; ER12-2447-006; ER13-1613-002; ER10-2918-010; ER12-199-008; ER10-2920-009; ER11-3941-007; ER10-2921-009; ER10-2922-009; ER10-3048-007; ER10-2966-009; ER10-3178-002.

Applicants: Alta Wind VIII, LLC, Bear Swamp Power Company LLC, Black Bear Development Holdings, LLC, Black Bear Hydro Partners LLC, Black Bear SO, LLC, Brookfield Energy Marketing Inc., Brookfield Energy Marketing LP, Brookfield Energy Marketing US LLC, Brookfield Power Piney & Deep Creek LLC, Brookfield Renewable Energy Marketing US, Brookfield Smoky Mountain Hydropower LLC, Brookfield White Pine Hydro LLC, Carr Street Generating Station, L.P., Coram California Development, L.P., Erie Boulevard Hydropower, L.P., Granite Reliable Power, LLC, Great Lakes Hydro America, LLC, Hawks Nest Hydro LLC, Mesa Wind Power Corporation, Rumford Falls Hydro LLC, Windstar Energy, LLC.

Description: Notice of Change in Status of the Brookfield Companies under ER11-3417, et al.

Filed Date: 2/20/14.

Accession Number: 20140220-5229.

Comments Due: 5 p.m. ET 3/13/14.

Docket Numbers: ER14-206-003.

Applicants: Midcontinent Independent System Operator, Inc.

Description: 2014-02-21 TOA SOC App A Compliance ER14-206-000 and -002 to be effective 12/28/2013.

Filed Date: 2/21/14.

Accession Number: 20140221-5120.

Comments Due: 5 p.m. ET 3/14/14.

Docket Numbers: ER14-503-001.

Applicants: PJM Interconnection, L.L.C.

Description: Deficiency filing per 1/28/2014 Order in ER14-503-000 to be effective 1/31/2014.

Filed Date: 2/21/14.

Accession Number: 20140221-5000.

Comments Due: 5 p.m. ET 3/7/14.

Docket Numbers: ER14-1348-000.

Applicants: The Dow Chemical Company.

Description: The Dow Chemical Company—Baseline Tariff Filing to be effective 2/21/2014.

Filed Date: 2/20/14.

Accession Number: 20140220-5199.

Comments Due: 5 p.m. ET 3/13/14.

Docket Numbers: ER14-1349-000.

Applicants: Union Carbide Corporation.

Description: Union Carbide Corporation—Baseline Tariff Filing to be effective 2/21/2014.

Filed Date: 2/20/14.

Accession Number: 20140220-5200.

Comments Due: 5 p.m. ET 3/13/14.

Docket Numbers: ER14-1350-000.

Applicants: California Independent System Operator Corporation.

Description: 2014-02-21_EIMImplemantationAgmt to be effective 4/23/2014.

Filed Date: 2/21/14.

Accession Number: 20140221-5063.

Comments Due: 5 p.m. ET 3/14/14.

Docket Numbers: ER14-1351-000.

Applicants: Southern California Edison Company.

Description: Amended IFA With City of Industry for Grand Crossing Development Project to be effective 2/22/2014.

Filed Date: 2/21/14.

Accession Number: 20140221-5079.

Comments Due: 5 p.m. ET 3/14/14.

Docket Numbers: ER14-1352-000.

Applicants: Puget Sound Energy, Inc.

Description: SGIP and SGIA Pro Forma to be effective 11/14/2011.

Filed Date: 2/21/14.

Accession Number: 20140221-5122.

Comments Due: 5 p.m. ET 3/14/14.

Take notice that the Commission received the following electric securities filings:

Docket Numbers: ES14-21-000.

Applicants: AEP Indiana Michigan Transmission Company, Inc., AEP Kentucky Transmission Company, Inc., AEP Oklahoma Transmission Company, Inc., AEP Southwestern Transmission Company, Inc., AEP West Virginia Transmission Company, Inc.

Description: Supplement to January 13, 2014 Application under Section 204 of the Federal Power Act of AEP Indiana Michigan Transmission Company, Inc. et. al. for Authorization to Issue Securities.

Filed Date: 2/21/14.

Accession Number: 20140221-5115.

Comments Due: 5 p.m. ET 3/3/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 21, 2014..
Nathaniel J. Davis, Sr.,
Deputy Secretary.

[FR Doc. 2014-04515 Filed 2-28-14; 8:45 am]

BILLING CODE 6717-01-P